LEGAL SERVICES CORPORATION

Sunshine Act Meetings

TIME AND DATE: The Committee to Explore Options for LSC Office Space (Office Space Committee) of the Legal Services Corporation Board of Directors will meet virtually on Tuesday, January 17, 2023. The meeting will commence at 3:00 p.m. EST, and will continue until the conclusion of the Committee's agenda.

PLACE: Public Notice of Virtual Meetings.

LSC will conduct the January 17, 2023 meeting via Zoom.

STATUS: Closed.

MATTERS TO BE CONSIDERED:

Closed Session

1. Approval of Agenda

2. Consider and Act on Recommendation for Future LSC Office Space

3. Consider and Act on Motion to Adjourn the Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

Dated: January 10, 2023.
Jessica Wechter,
Special Assistant to the President, Legal Services Corporation.

[FR Doc. 2023-00674 Filed 1-11-23; 11:15 am]

BILLING CODE 7050-01-P